DEPARTMENT OF THE INTERIOR

U.S. Geological Survey

Agency Information Collection Activities: Comment Request

AGENCY: U.S. Geological Survey (USGS), Interior.

ACTION: Notice of an extension of an information collection (1028-0082).

SUMMARY: To comply with the Paperwork Reduction Act of 1995 (PRA), we are notifying the public that we will submit to OMB an information collection request (ICR) to renew approval of the paperwork requirements for “Bird Banding Lab (2 USGS forms).” This notice provides the public an opportunity to comment on the paperwork burden of this form.

DATES: You must submit comments on or before April 7, 2009.

ADDRESSES: Send your comments on this information collection directly to the Office of Management and Budget (OMB), Office of Information and Regulatory Affairs, Attention: Desk Officer for the Department of the Interior via OMB e-mail: (OIRA_DOCKET@omb.eop.gov); or by fax (202) 395-6566; and identify your submission with #1028-0082. Please submit a copy of your comments to the Phadrea Ponds, Information Collections, U.S. Geological Survey, 2150-C Center Avenue, Fort Collins, CO 80525 (mail); (970) 226-9230 (fax); or FAX: pponds@usgs.gov (e-mail). Use Information Collection Number 1028-0082 in the subject line.

FOR FURTHER INFORMATION CONTACT: To request additional information about this ICR, contact David Smith at davidasmith@usgs.gov.

SUPPLEMENTARY INFORMATION: Title: Bird Banding Laboratory.

OMB Control Number: 1028-0082.

Type of Request: Extension of a currently approved collection.

Abstract: The USGS Bird Banding Laboratory is responsible for monitoring the trapping and marking of wild migratory birds by persons holding Federal permits. The Bird Banding laboratory collects information using two forms: (1) The Application for Federal Bird Marking and Salvage Permit; and (2) The Bird Banding Recovery Report. This request does not include the Bird Banding Schedule.

We will protect information from respondents considered proprietary under the Freedom of Information Act (5 U.S.C. 552) and its implementing regulations (43 CFR Part 2), and under regulations at 30 CFR 250.197, “Data and information to be made available to the public or for limited inspection.” Responses are voluntary. No questions of a “sensitive” nature are asked.

Affected Public: General Public.

Respondent Obligation: Voluntary.

Frequency of Collection: On occasion.

Estimated Number and Description of Respondents: 85,550 Individuals encountering a banded bird and volunteer bird banders.

Annual Burden Hours: 4,525 hours.

Estimated Annual Reporting and Recordkeeping “Hour” Burden: The currently approved “hour” burden for this collection is 4,525 hours. We do not expect the burden for each form to change as a result of this request (30 minutes for Permit Application form; 3 minutes for Recovery Report form.

Estimated Reporting and Recordkeeping “Non-Hour Cost” Burden: We have not identified any “non-hour cost” burdens associated with this collection of information.

Public Disclosure Statement: The PRA (44 U.S.C. 3501, et seq.) provides that an agency may not conduct or sponsor and you are not required to respond to, a collection of information unless it displays a currently valid OMB control number. Until OMB approves a collection of information, you are not obligated to respond.

Comments: We are soliciting comments as to: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology.

Please note that the comments submitted in response to this notice are a matter of public record. Before including your address, phone number, e-mail address, or other personal identifying information in your comment, you should be aware that your entire comment, including your personal identifying information, may be made publicly available at any time. While you can ask OMB in your comment to withhold your personal identifying information from public review, we cannot guarantee that it will be done. To comply with the public process, we publish this Federal Register notice announcing that we will submit this ICR to OMB for approval. The notice provided the required 60 day public comment period.

USGS Information Collection Clearance Officer: Phadrea Ponds, 970-226-9445.

Dated: January 28, 2009.
Susan D. Haseltine,
Associate Director for Biology, U.S. Geological Survey.

[FR Doc. E9-2544 Filed 2-5-09; 8:45 am]

BILLING CODE 4311-AM-P